FEDERAL COMMUNICATIONS COMMISSION

[DA 16-1039]

Elimination of Certain System-Generated Paper Correspondence Notices as Initial Step Toward Providing Electronic Access to Correspondence Notices

AGENCY: Federal Communications Commission.

ACTION: Notice.

SUMMARY: In this document, the Wireless Telecommunications Bureau and Public Safety and Homeland Security Bureau (Bureaus) announce the elimination of certain paper correspondence notices related to applications, licenses, and antenna structure registrations currently generated by the Commission's Universal Licensing System and Antenna Structure Registration System.

DATES: Effective September 23, 2016.

FOR FURTHER INFORMATION CONTACT: Mary Bucher at (717) 338-2656 or via email at Mary.Bucher@fcc.gov or Cyndi Thomas at (202) 418-2018 or via email at Cyndi.Thomas@fcc.gov.

SUPPLEMENTARY INFORMATION: This is a summary of the Bureaus' Public Notice (Notice), DA 16-1039, released on September 14, 2016. The complete text of this document is available for viewing via the Commission's EDOCS Web site by entering the DA number, DA 16-1039. The complete text of the document is also available for public inspection and copying during business hours at the FCC Reference Information Center on the Court Yard Level (Room CY-A257), 445 12th Street SW., Washington, DC (telephone 202-418-0270; TTY 202-418-2555). Alternate formats of this Public Notice (computer diskette, large print, audio recording, and Braille) are available to persons with disabilities by contacting the Consumer & Governmental Affairs Bureau at 202-418-0530 (voice), 202-418-0432 (TTY), or by sending an email to fcc504@fcc.gov.

In the Notice, the Wireless Telecommunications Bureau (WTB) and the Public Safety and Homeland Security Bureau (PSHSB) (collectively “Bureaus”) announce the elimination of certain paper correspondence notices related to applications, licenses, and antenna structure registrations currently generated by the Commission's Universal Licensing System (ULS) and Antenna Structure Registration (ASR) System and mailed to system users through the U.S. Postal Service. This action marks another step in the Commission's process reform efforts, which recommended eliminating paper copies of correspondence, and allows the Bureaus to streamline the Commission's wireless service licensing and antenna structure registration processes, in advance of the transition of initial services to a modernized ULS platform. The action also builds on earlier efforts to transition from paper to electronic records in the context of official authorizations issued in ULS and ASR.

The paper correspondence notices that the Bureaus are eliminating provide information about Bureau actions that do not require a response from a system user and the information from those notices is available by other means in either ULS or the ASR System. Taking this step now—reducing the number of notices generated by the Commission's systems—will save money in terms of staff resources, paper supplies, and mailing costs. The Bureaus are not eliminating certain paper notices that provide information about Commission actions or approaching deadlines that require action from the system user. As explained in the Notice, the Commission ultimately anticipates providing electronic access to these system-generated correspondence notices with the transition to the modernized ULS platform.

By this Notice, as discussed in detail below, the Bureaus announce the following actions with respect to system-generated notifications:

• Effective upon publication of this Notice in the Federal Register, the Bureaus eliminate seven ULS-generated correspondence notices from ULS, and those notices will not be migrated to the Commission's new wireless licensing system. The Bureaus eliminate seven ASR-generated correspondence notices from the ASR System.

• The Bureaus retain 15 ULS-generated correspondence notices in ULS. These notices will also be migrated to the Commission's new wireless licensing system with each service as the service is deployed in the new system. The Bureaus retain three ASR-generated correspondence notices.

• The Bureaus retain the ULS-generated license cancellation notice in ULS, but that notice will not be migrated to the Commission's new licensing system. Electronic safeguards will be implemented in the new licensing system to help prevent licensees from inadvertently cancelling a license.

The new procedures become effective upon publication of this Notice in the Federal Register. For promulgating “rules of agency organization, procedure, or practice”—so-called “procedural rules”—Section 4 of the Administrative Procedure Act (APA) exempts agencies like the Federal Communications Commission from the general APA requirements to provide the public with advance notice and opportunity for comment. 5 U.S.C. 553(b)(A). Section 3(a) of the APA requires agencies to publish their “rules of procedure” in the Federal Register, 5 U.S.C. 552(a)(1)(C), and Section 4(d) generally requires an agency to publish its substantive rules 30 days prior to the date on which the rules become effective, id. § 553(d). Because Section 4(d) expressly applies to substantive rules and not to procedural rules, the requirement to publish the new procedures with respect to system-generated correspondence notices 30 days before those procedures become effective is inapplicable in this proceeding.

Background

The Commission implemented ULS and the ASR System nearly 20 years ago to facilitate electronic filing for all wireless licensing and antenna structure registration applications as well as electronic access to authorizations. The systems also improve data accuracy through automated checking of applications and enhanced electronic access to license and registration database information. In fact, the two systems receive hundreds of thousands of applications electronically each year and the systems currently store over two million active authorizations. To facilitate communication between the Commission and system users with regard to the status of applications and authorizations, the Commission developed several notices that the systems generate. Correspondence notices are generated from forms that are assigned FCC Form numbers. Notices are assigned form numbers depending on whether they are generated for WTB services (600 series forms) or PSHSB services (1400 series forms). Notices that are being eliminated are listed in Attachment A and notices that are being retained are listed in Attachment B to this Notice. Currently, ULS generates 23 correspondence notices and the ASR System generates 10 correspondence notices.

These system-generated notices provide a range of information. Once an application is filed, ULS or the ASR System may generate notices ranging from a notice stating that the application has been received to a notice dismissing the application, which could result in termination of an authorization. Both systems also generate notices from data associated with authorizations, e.g., notices reminding licensees and registrants of approaching construction deadlines. Notices may include automated system messages or individual messages manually drafted by Commission staff, depending on the reason for generating a notice. Each notice is then printed on paper, placed in a postage-paid envelope, and mailed through the U.S. Postal System to system users. In some cases, a paper copy of the same notice is mailed to as many as three individuals or entities.

Discussion

Electronic Access to Correspondence Notices

To implement the FCC Process Reform recommendation to eliminate paper copies of correspondence, the Commission anticipates using a multi-phased process for reducing the overall number of notices generated by its wireless licensing and antenna structure registration systems, and for moving toward options that would allow system users electronic access to system-generated correspondence notices. The first step in this process is addressed by this Notice and affects ULS and the ASR System. Further steps in the process toward electronic access, for licensing, would be implemented in the Commission's new wireless service licensing system.

As the Commission concluded in adopting final procedures for electronic access to official authorizations in both ULS and the ASR System, given the ease of access to the Internet, the ubiquitous availability of electronic documents, and the high adoption rate by consumers of electronic delivery of many other documents, as well as the near-term deployment of the Commission's new wireless licensing system, the Bureaus believe that the time is appropriate for moving toward modernizing the treatment of system-generated correspondence. Reducing the number of notices generated by the Commission's systems and moving to electronic access will save money in terms of staff resources, paper supplies, and mailing costs. Over the three-year period 2013-2015, ULS and the ASR System together generated 708,940 correspondence notices that were each printed on paper, placed in a postage-paid envelope, and mailed through the U.S. Postal Service. The Bureaus also anticipate that making the correspondence notices available electronically will eliminate the risk of a notice getting lost or damaged in delivery.

The Bureaus initiate the Commission's phased-in process toward electronic access by first eliminating seven ULS-generated and seven ASR-generated correspondence notices. With respect to the remaining correspondence notices, as services are deployed in the new wireless licensing system, the Bureaus will initially continue the current process of mailing licensing system-generated notices to recipients through the U.S. Postal Service. After some or all services have been deployed in the new licensing system, the Commission anticipates reviewing options for allowing applicants and licensees electronic access to notices generated by that new system. The Commission also anticipates reviewing options for allowing applicants and registrants electronic access to ASR-generated notices. Finally, while we are eliminating a number of existing notices, the new wireless licensing system presents an opportunity for developing new electronic notifications that could provide information formerly included in eliminated notices, as well as other information not currently provided by ULS or the ASR System.

Notices Eliminated

All of the correspondence notices that the Bureaus are eliminating provide information about Bureau actions that do not require a response from a system user. In particular, because the information provided in these notices is readily available by some other means in either ULS or the ASR System, or because the reasons for initially developing the notices are no longer supported, we eliminate seven notices from ULS and seven notices from the ASR System. Some notices simply acknowledge that the systems have received an application. The Bureaus find this information redundant because today, an applicant can check ULS or the ASR System within a few days of filing an application to confirm that the relevant system has received the application.

ULS also generates notices that advise former aircraft or ship licensees that their authorizations have terminated and another party has obtained a license for the aircraft or ship. The ASR System informs a former owner of an antenna structure that an application has been processed to change the ownership of the antenna structure on a registration. The notices, in each of these cases, were developed to limit third parties from fraudulently cancelling or obtaining someone else's license or registration. Over the past several years, however, the Bureaus have found that fraudulent actions rarely, if ever, happen.

Both ULS and the ASR System also generate notices that acknowledge a licensee or registrant has associated, removed, or replaced an FCC Registration Number (FRN) with respect to a license or registration. Again, these notifications were developed to limit third parties from tampering with the association of an FRN to a license or registration. Today, however, because licensees and registrants associate, remove, or replace an FRN with respect to an authorization only by electronic filings, a third party could not submit an application manually to tamper with the association between an FRN and a license or registration. The Bureaus therefore eliminate these six notices. The Bureaus further note that in 2004, WTB issued public notices announcing that it would send these FRN notifications first by email, and where the applicant did not provide an email address, by mail through the U.S. Postal Service. Because we eliminate the notices, we will no longer send FRN notices by email.

Finally, the Bureaus will not migrate the notices that we are eliminating in ULS to the Commission's new wireless licensing system. As the new wireless licensing system is deployed and as enhancements are made to the ASR System, the Commission may consider developing electronic notifications that provide information similar to the information currently included in these notices, where, for example a system user elects to receive the information by email or text message.

Notices Retained

Return, Dismissal, Termination Pending, and Courtesy Reminder Notices. The Bureaus retain 15 correspondence notices in ULS and three notices in the ASR System because they provide (1) information about Commission actions that require a response from the applicant; or (2) information about approaching deadlines that require action from the applicant, licensee, or registrant. The Bureaus will also migrate the notices that they are retaining in ULS to the new wireless licensing system as services are deployed in that system. In particular, the Bureaus retain notices that return an application for correction or additional information, as well as notices that dismiss an application. The Bureaus also retain “courtesy” notices that remind a licensee or registrant that a construction or renewal deadline is approaching, as well as notices warning a licensee that its license has been placed in termination pending status.

The Bureaus explain that notices that fall within these categories are often critical to an applicant that intends to continue prosecuting an application, as well as a licensee or registrant that intends to retain an authorization. The Bureaus further note that the Commission has addressed these types of processes in adopting policies for ULS and the ASR System. In 1999, the Commission developed a unified policy for dismissing and returning applications in both ULS and the ASR System. The system-generated return and dismissal notices are the mechanisms by which the Bureaus implemented this policy.

In adopting rules governing license application procedures for ULS, the Commission also stated that, as a convenience to licensees, ULS would issue construction notifications prior to construction deadlines as well as renewal reminder notices prior to license expiration dates. The Commission further stated that, for the time being, these types of courtesy reminder notices would be sent by mail. In particular, at the time it adopted ULS rules and procedures, the Commission rejected delivery of notices by email, instead deciding that licensees would continue to be notified of official Commission action by regular mail only. The Commission noted, however, that it was “optimistic that a system of electronic communication at some time in the future may offer a substantial increase in efficiency and paper reduction” and that “we may revisit this issue at a later time should circumstances warrant.” Based on general requirements established by the Commission in that same proceeding for its automated termination procedures, ULS generates on the same day correspondence notices as well as a public notice warning licensees that they have not filed construction notifications in a timely manner and, absent confirmation of timely construction, termination of the licenses becomes final.

The Bureaus further explain that the Commission found that these policies would produce staff efficiencies, lessen the burden on applicants and licensees, increase the accuracy of the ULS database, and promote efficient spectrum use. The Bureaus also note, importantly, that the date on a return or dismissal notice, as well as a termination pending notice, is the date on which the period for seeking reconsideration begins. For these reasons, the Bureaus retain notices that require responses from system users because of an action taken by the Bureaus or because of an approaching renewal or construction deadline.

The Bureaus also retain four notices currently generated by ULS that the Commission anticipates moving to its Electronic Authorization process in the new wireless licensing system. Three of these notices acknowledge the addition, modification, or deletion of a registered site on an authorization in the 3650-3700 MHz Service, as well as in the Non-Public Safety and Public Safety Intelligent Transportation Services. The fourth notice acknowledges the addition of a registered link on an authorization in the Millimeter Wave 70/80/90 GHz Service. The Bureaus retain these notices because they currently confirm modifications to registered sites or links on an authorization in these services. Once moved to the Commission's Electronic Authorization process, the Bureaus anticipate that the registration notices will be available electronically, unless a licensee notifies the Commission that it wishes to receive the notice on paper through the U.S. Postal Service.

License Cancellation and Antenna Structure Registration Cancellation and Termination Notice

The Bureaus also retain license cancellation notices in ULS. For the following reasons, however, the Bureaus will not migrate the license cancellation notice to the new wireless licensing system, and the Bureaus eliminate the cancellation and termination notices in the ASR System. After an application to cancel a license is granted, ULS generates a notice that is mailed to the licensee stating that the license referenced in the notice has been cancelled. In the ASR System, registrations have two statuses—granted and constructed. If a registrant cancels a registration before the antenna structure is constructed, the ASR System automatically generates a cancellation notice. If the registrant terminates a registration after the antenna structure is constructed, staff triggers the ASR System to generate a termination notice. The intent of these notices is to allow the licensee or registrant to take action if the license or registration is improperly cancelled by a third party, but in our experience, the vast majority of erroneous cancellations are filed by someone who was authorized to act on behalf of the licensee or registrant.

An inadvertent cancellation of a site-based license that goes unnoticed may, in many services, result in another party obtaining a license for the spectrum formerly authorized in the cancelled license. In addition, where another party has not obtained a license for the spectrum, a new application to replace the cancelled license may require frequency coordination and application fees, potentially resulting in significant costs. In auction services, an inadvertent cancellation might result in the loss of the authorization with return of the license spectrum to the Commission. To limit these consequences, the Bureaus retain license cancellation notices in ULS. The Bureaus will, however, eliminate the notice in services as they are deployed in the new wireless licensing system. Rather than generating license cancellation notices in the new licensing system, that system will offer electronic safeguards to prevent a licensee from inadvertently cancelling its license. For example, the new licensing system may create “pop-ups” asking the applicant if it is sure it wants to cancel the license at issue in the application and warning of the consequences of cancelling the authorization.

The Bureaus also eliminate the cancellation and termination notices in the ASR System. Parties filing registration applications do not obtain registrations through the Commission's competitive bidding procedures, do not pay application fees, and rarely, if ever, does someone other than an antenna structure owner cancel or terminate a registration. Where an antenna structure owner inadvertently cancels or terminates a registration, it simply files a new application.

Attachment A—Eliminated Correspondence Notices

The 600 series form numbers are assigned to notices generated for Wireless Telecommunications Bureau services and the 1400 series form numbers are assigned to notices generated for Public Safety and Homeland Security Bureau services.

ULS-Generated Correspondence Notices Eliminated
Notice | Form No.
Notice of Aircraft Radio Station Termination | 696A
Notice of Ship Radio Station Termination | 696S
Ownership Notification Letter | 602-A
Application Notification Letter | 682/1404
FCC Registration Notification Letter (associate) | 683A/1405
FCC Registration Notification Letter (remove) | 683D/1405
FCC Registration Notification Letter (replace) | 683R/1405

ASR-Generated Correspondence Notices Eliminated
Notice | Form No.
Notice of ASR Change of Ownership | 684
Notification of Application Receipt | 675
FCC Registration Notification Letter (associate) | 676A
FCC Registration Notification Letter (remove) | 676D
FCC Registration Notification Letter (replace) | 676R
Notice of ASR Cancellation | 686
Notice of ASR Termination | 687

Attachment B—Retained Correspondence Notices

The 600 series form numbers are assigned to notices generated for Wireless Telecommunications Bureau services and the 1400 series form numbers are assigned to notices generated for Public Safety and Homeland Security Bureau services.

ULS-Generated Correspondence Notices Retained
Notice | Form No.
[Form 603] Application Dismissal Letter | 603-D/1401
Notice of Return for Canadian Objections | 690/1408
Notice of Immediate Return | 693/1410
Notice of Immediate Dismissal | 694/1411
Notice of Return | 698/1414
Notice of Dismissal | 699/1415
Notice of Authorization Grant-In-Part | 700/1416
Notification of Consummation Reminder Letter | 603-CR/1402
Construction/Coverage Deadline Notice of License Termination Pending Status | 672/1403
Construction/Coverage Deadline Important Reminder Notice | 691/1409
Renewal Reminder Notice | 695/1412
3650-3700 MHz Service Registration Acceptance Letter | 674
Intelligent Transportation Service (Non-Public Safety) Registration Acceptance Letter | 677
Millimeter Wave 70/80/90 GHz Service Registration Acceptance Letter | 678
Intelligent Transportation Service (Public Safety) Registration Acceptance Letter | 1418
Notice of License Cancellation | 697/1413

ASR-Generated Correspondence Notices Retained
Form | Form No.
Notice of Return | 688
Notice of Dismissal | 689
ASR Construction Reminder | 685

Federal Communications Commission.
Katherine M. Harris,
Deputy Chief, Mobility Division, Wireless Telecommunications Bureau.

[FR Doc. 2016-22934 Filed 9-22-16; 8:45 am]

BILLING CODE 6712-01-P